DEPARTMENT OF THE INTERIOR

Bureau of Land Management

[LLNM910000 L10200000.PH0000]

Reopening the Call for Nominations for the New Mexico Albuquerque and Farmington District Resource Advisory Councils

AGENCY: Bureau of Land Management, Interior.

ACTION: Notice.

SUMMARY: The purpose of this notice is to reopen the nomination period for the Bureau of Land Management's (BLM) Albuquerque, New Mexico, and Farmington, New Mexico, Resource Advisory Councils (RAC). The RACs provide advice and recommendations to the BLM on land use planning and management of the public lands within the Albuquerque and Farmington Districts. The Farmington, New Mexico, RAC is only seeking applicants who meet the criteria for elected official in Category Three.

DATES: All nominations must be received no later than March 28, 2011.

ADDRESSES: Contact Edwin Singleton, Albuquerque District Office, BLM, 435 Montano NE, Albuquerque, New Mexico 87107, (505) 761-8700, or Steve Henke, Farmington District Office, BLM, 1235 La Plata Highway, Farmington, New Mexico 87401, (505) 599-8900.

FOR FURTHER INFORMATION CONTACT: Contact Edwin Singleton, Albuquerque District Office, BLM, 435 Montano NE., Albuquerque, New Mexico 87107, (505) 761-8700, or Steve Henke, Farmington District Office, BLM, 1235 La Plata Highway, Farmington, New Mexico 87401, (505) 599-8900.

SUPPLEMENTARY INFORMATION: The Federal Land Policy and Management Act of 1976 (FLPMA) (43 U.S.C. 1739) directs the Secretary of the Interior (Secretary) to involve the public in planning and issues related to management of lands administered by the BLM. Section 309 of FLPMA directs the Secretary to establish 10- to 15-member citizen-based advisory councils that are consistent with the Federal Advisory Committee Act (FACA). The rules governing RACs are found at 43 CFR subpart 1784. As required by FACA, RAC membership must be balanced and representative of the various interests concerned with the management of the public lands. These include three categories:

Category One—Holders of Federal grazing permits or leases within the area for which the council is organized, and representatives of organizations associated with energy and mineral development, commercial timber industry, transportation or rights-of-way, developed outdoor recreation, off-highway vehicle use, and commercial recreation;

Category Two—Representatives of nationally or regionally recognized environmental organizations, archaeological and historical organizations, dispersed recreational activities, and nationally or regionally recognized wild horse and burro interest groups; and

Category Three—Representatives of State, county, or local elected office; representatives and employees of a State agency responsible for management of natural resources, land or water; representatives of Indian tribes within or adjacent to the area for which the council is organized; representatives of academia who are employed in natural resource management or the natural sciences; and representatives of the affected public-at-large.

Individuals may nominate themselves or others. Nominees must be residents of the BLM district in which the RAC has jurisdiction. The BLM will evaluate nominees based on their education, training, experience, and knowledge of the geographical area of the RAC. Nominees should demonstrate a commitment to collaborative resource decision-making. The Obama Administration prohibits individuals who are currently federally registered lobbyists to serve on all FACA and non-FACA boards, committees, or councils. An individual may not serve concurrently on more than one RAC. The following must accompany all nominations:

—Letters of reference from represented interests or organizations;

—A completed background information nomination form; and

—Any other information that addresses the nominee's qualifications.

If you have already submitted your nomination materials for 2010, you will not need to resubmit.

Certification Statement: I hereby certify that the BLM's New Mexico RACs are necessary and in the public interest in connection with the Secretary's responsibilities to manage the lands, resources, and facilities administered by the BLM.

Linda S.C. Rundell,
State Director.

[FR Doc. 2011-4123 Filed 2-23-11; 8:45 am]

BILLING CODE 4310-FB-P